DEPARTMENT OF AGRICULTURE

Agricultural Marketing Service

[Docket No. FV00-33-1NC]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for the Export Apple Act and the Export Grape and Plum Act.

DATES: Comments on this notice must be received by December 11, 2000, to be assured of consideration.

ADDITIONAL INFORMATION OR COMMENTS: Contact Valerie L. Emmer-Scott, Marketing Specialist, Marketing Order Administration Branch, Fruit and Vegetable Programs, AMS, USDA, P.O. Box 96456, Room 2525-S, Washington, D.C., 20090-6456, telephone (202) 205-2829 or Fax (202) 720-5698, or E-mail: moab.docketclerk@usda.gov.

Small businesses may request information on this notice by contacting Jay Guerber, Regulatory Fairness Representative, Marketing Order Administration Branch, Fruit and Vegetable Programs, AMS, USDA, room 2525-S, P.O. Box 96456, Washington, DC 20090-6456; telephone (202) 720-2491, Fax: (202) 720-5698, or E-mail: Jay.Guerber@usda.gov.

SUPPLEMENTARY INFORMATION: Title: Export Fruit Regulations—Export Apple Act (7 CFR Part 33) and the Export Grape and Plum Act (7 CFR Part 35).

OMB Number: 0581-0143.

Expiration Date of Approval: July 31, 2001.

Type of Request: Extension and revision of a currently approved information collection.

Abstract: Fresh apples and grapes grown in the United States shipped to any foreign destination must meet minimum quality and other requirements established by regulations issued under the Export Apple Act (7 U.S.C. 581-590) and the Export Grape and Plum Act (7 U.S.C. 591-599). Currently, plums are not regulated under the Export Grape and Plum Act. The regulations issued under the Export Grape and Plum Act (7 CFR Part 35) cover fresh grapes grown in the United States and shipped to foreign destinations, except Canada and Mexico. The regulations issued under the Export Apple Act (7 CFR Part 33) covers fresh apples grown in the United States shipped to foreign destinations. In accordance with amendments to that Act, pears have been removed from coverage and the current regulations will be amended accordingly. The Secretary of Agriculture is authorized to oversee the implementation of the export fruit acts and issue regulations regarding these commodities. The information collection requirements in this request are essential to carry out the intent and administration of the export fruit acts. The Export Apple Act and the Export Grape and Plum Act have been in effect since 1933 and 1960 respectively.

Both Acts were designed to promote the foreign trade of the United States in apples, grapes and plums; to protect the reputation of these American-grown commodities; and to prevent deception or misrepresentation of the quality of such products moving in foreign commerce.

The regulations issued under the Acts (§ 33.11 for apples, and § 35.12 for grapes) require that the U.S. Department of Agriculture (USDA) officially inspect and certify that each shipment of fresh apples and grapes is in compliance with all pertinent regulatory requirements effective under the Acts. Persons who ship fresh apples and grapes grown in the United States to foreign destinations must have such shipment inspected and certified by Federal or Federal-State Inspection Service (FSIS) inspectors. The FSIS is administered by the Agricultural Marketing Service.

The forms covered under this information collection require the minimum information necessary to effectively carry out the export fruit acts, and their use is necessary.

The information collection requirements in this request is primarily in the form of recordkeeping. Information needed by USDA is available on official FSIS inspection certificates, and on phytosanitary inspection certificates issued by USDA's Animal and Plant Health Inspection Service.

Export carriers are required to keep on file for three years copies of inspection certificates for apples and grapes transported by them. Export shippers are required to label certain containers of apples and grapes used for export shipments.

The number of exporters has remained fairly constant in recent years. There are an estimated 115 exporters who use the required forms and the corresponding forms have remained constant.

The information collection requirements in this request are periodically reviewed to ensure that they place as small a burden on the exporter as possible. Procedures have been streamlined to assure efficiency in administering the Acts.

Estimate of Burden: Public reporting burden for this collection of information is estimated to average 4.9528 hours per response.

Respondents: Fruit export shippers and export carriers.

Estimated Number of Respondents: 115.

Estimated Number of Responses per Respondent: 3.96.

Estimated Total Annual Burden on Respondents: 2,204.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Comments may be sent to Docket Clerk, Fruit and Vegetable Programs, AMS, USDA, P.O. Box 96456, Room 2525-S, Washington, DC, 20090-6456; Fax: (202) 720-5698; or E-mail: moab.docketclerk@usda.gov. Comments should reference the docket number and the date and page number of this issue of the Federal Register. All comments received will be available for public inspection during regular business hours at the same address, or can be viewed at: http://www.ams.usda.gov/fv/moab.html. All responses to this notice will be summarized and included in the request for OMB approval. All comments will become a matter of public record.

Dated: October 3, 2000.
Robert C. Keeney,
Deputy Administrator, Fruit and Vegetable Programs.

[FR Doc. 00-25947 Filed 10-6-00; 8:45 am]

BILLING CODE 3410-02-U